Title 3—

The President

Proclamation 9558 of December 28, 2016

Establishment of the Bears Ears National Monument

By the President of the United States of America

A Proclamation

Rising from the center of the southeastern Utah landscape and visible from every direction are twin buttes so distinctive that in each of the native languages of the region their name is the same: Hoon'Naqvut, Shash Jáa, Kwiyagatu Nukavachi, Ansh An Lashokdiwe, or “Bears Ears.” For hundreds of generations, native peoples lived in the surrounding deep sandstone canyons, desert mesas, and meadow mountaintops, which constitute one of the densest and most significant cultural landscapes in the United States. Abundant rock art, ancient cliff dwellings, ceremonial sites, and countless other artifacts provide an extraordinary archaeological and cultural record that is important to us all, but most notably the land is profoundly sacred to many Native American tribes, including the Ute Mountain Ute Tribe, Navajo Nation, Ute Indian Tribe of the Uintah Ouray, Hopi Nation, and Zuni Tribe.

The area's human history is as vibrant and diverse as the ruggedly beautiful landscape. From the earliest occupation, native peoples left traces of their presence. Clovis people hunted among the cliffs and canyons of Cedar Mesa as early as 13,000 years ago, leaving behind tools and projectile points in places like the Lime Ridge Clovis Site, one of the oldest known archaeological sites in Utah. Archaeologists believe that these early people hunted mammoths, ground sloths, and other now-extinct megafauna, a narrative echoed by native creation stories. Hunters and gatherers continued to live in this region in the Archaic Period, with sites dating as far back as 8,500 years ago.

Ancestral Puebloans followed, beginning to occupy the area at least 2,500 years ago, leaving behind items from their daily life such as baskets, pottery, and weapons. These early farmers of Basketmaker II and III and builders of Pueblo I, II, and III left their marks on the land. The remains of single family dwellings, granaries, kivas, towers, and large villages and roads linking them together reveal a complex cultural history. “Moki steps,” hand and toe holds carved into steep canyon walls by the Ancestral Puebloans, illustrate the early people's ingenuity and perseverance and are still used today to access dwellings along cliff walls. Other, distinct cultures have thrived here as well—the Fremont People, Numic- and Athabaskan-speaking hunter-gatherers, and Utes and Navajos. Resources such as the Doll House Ruin in Dark Canyon Wilderness Area and the Moon House Ruin on Cedar Mesa allow visitors to marvel at artistry and architecture that have withstood thousands of seasons in this harsh climate.

The landscape is a milieu of the accessible and observable together with the inaccessible and hidden. The area's petroglyphs and pictographs capture the imagination with images dating back at least 5,000 years and spanning a range of styles and traditions. From life-size ghostlike figures that defy categorization, to the more literal depictions of bighorn sheep, birds, and lizards, these drawings enable us to feel the humanity of these ancient artists. The Indian Creek area contains spectacular rock art, including hundreds of petroglyphs at Newspaper Rock. Visitors to Bears Ears can also discover more recent rock art left by the Ute, Navajo, and Paiute peoples. It is also the less visible sites, however—those that supported the food gathering, subsistence and ceremony of daily life—that tell the story of the people who lived here. Historic remnants of Native American sheep-herding and farming are scattered throughout the area, and pottery and Navajo hogans record the lifeways of native peoples in the 19th and 20th centuries.

For thousands of years, humans have occupied and stewarded this land. With respect to most of these people, their contribution to the historical record is unknown, but some have played a more public role. Famed Navajo headman K'aayélii was born around 1800 near the twin Bears Ears buttes. His band used the area's remote canyons to elude capture by the U.S. Army and avoid the fate that befell many other Navajo bands: surrender, the Long Walk, and forced relocation to Bosque Redondo. Another renowned 19th century Navajo leader, “Hastiin Ch'ihaajin” Manuelito, was also born near the Bears Ears.

The area's cultural importance to Native American tribes continues to this day. As they have for generations, these tribes and their members come here for ceremonies and to visit sacred sites. Throughout the region, many landscape features, such as Comb Ridge, the San Juan River, and Cedar Mesa, are closely tied to native stories of creation, danger, protection, and healing. The towering spires in the Valley of the Gods are sacred to the Navajo, representing ancient Navajo warriors frozen in stone. Traditions of hunting, fishing, gathering, and wood cutting are still practiced by tribal members, as is collection of medicinal and ceremonial plants, edible herbs, and materials for crafting items like baskets and footwear. The traditional ecological knowledge amassed by the Native Americans whose ancestors inhabited this region, passed down from generation to generation, offers critical insight into the historic and scientific significance of the area. Such knowledge is, itself, a resource to be protected and used in understanding and managing this landscape sustainably for generations to come.

Euro-Americans first explored the Bears Ears area during the 18th century, and Mormon settlers followed in the late 19th century. The San Juan Mission expedition traversed this rugged country in 1880 on their journey to establish a new settlement in what is now Bluff, Utah. To ease the passage of wagons over the slick rock slopes and through the canyonlands, the settlers smoothed sections of the rock surface and constructed dugways and other features still visible along their route, known as the Hole-in-the-Rock Trail. Cabins, corrals, trails, and carved inscriptions in the rock reveal the lives of ranchers, prospectors, and early archaeologists. Cattle rustlers and other outlaws created a convoluted trail network known as the Outlaw Trail, said to be used by Butch Cassidy and the Sundance Kid. These outlaws took advantage of the area's network of canyons, including the aptly-named Hideout Canyon, to avoid detection.

The area's stunning geology, from sharp pinnacles to broad mesas, labyrinthine canyons to solitary hoodoos, and verdant hanging gardens to bare stone arches and natural bridges, provides vital insights to geologists. In the east, the Abajo Mountains tower, reaching elevations of more than 11,000 feet. A long geologic history is documented in the colorful rock layers visible in the area's canyons.

For long periods over 300 million years ago, these lands were inundated by tropical seas and hosted thriving coral reefs. These seas infused the area's black rock shale with salts as they receded. Later, the lands were bucked upwards multiple times by the Monument Upwarp, and near-volcanoes punched up through the rock, leaving their marks on the landscape without reaching the surface. In the sandstone of Cedar Mesa, fossil evidence has revealed large, mammal-like reptiles that burrowed into the sand to survive the blistering heat of the end of the Permian Period, when the region was dominated by a seaside desert. Later, in the Late Triassic Period more than 200 million years ago, seasonal monsoons flooded an ancient river system that fed a vast desert here.

The paleontological resources in the Bears Ears area are among the richest and most significant in the United States, and protection of this area will provide important opportunities for further archaeological and paleontological study. Many sites, such as Arch Canyon, are teeming with fossils, and research conducted in the Bears Ears area is revealing new insights into the transition of vertebrate life from reptiles to mammals and from sea to land. Numerous ray-finned fish fossils from the Permian Period have been discovered, along with other late Paleozoic Era fossils, including giant amphibians, synapsid reptiles, and important plant fossils. Fossilized traces of marine and aquatic creatures such as clams, crayfish, fish, and aquatic reptiles have been found in Indian Creek's Chinle Formation, dating to the Triassic Period, and phytosaur and dinosaur fossils from the same period have been found along Comb Ridge. Paleontologists have identified new species of plant-eating crocodile-like reptiles and mass graves of lumbering sauropods, along with metoposaurus, crocodiles, and other dinosaur fossils. Fossilized trackways of early tetrapods can be seen in the Valley of the Gods and in Indian Creek, where paleontologists have also discovered exceptional examples of fossilized ferns, horsetails, and cycads. The Chinle Formation and the Wingate, Kayenta, and Navajo Formations above it provide one of the best continuous rock records of the Triassic-Jurassic transition in the world, crucial to understanding how dinosaurs dominated terrestrial ecosystems and how our mammalian ancestors evolved. In Pleistocene Epoch sediments, scientists have found traces of mammoths, short-faced bears, ground sloths, primates, and camels.

From earth to sky, the region is unsurpassed in wonders. The star-filled nights and natural quiet of the Bears Ears area transport visitors to an earlier eon. Against an absolutely black night sky, our galaxy and others more distant leap into view. As one of the most intact and least roaded areas in the contiguous United States, Bears Ears has that rare and arresting quality of deafening silence.

Communities have depended on the resources of the region for hundreds of generations. Understanding the important role of the green highlands in providing habitat for subsistence plants and animals, as well as capturing and filtering water from passing storms, the Navajo refer to such places as “Nahodishgish,” or places to be left alone. Local communities seeking to protect the mountains for their watershed values have long recognized the importance of the Bears Ears' headwaters. Wildfires, both natural and human-set, have shaped and maintained forests and grasslands of this area for millennia. Ranchers have relied on the forests and grasslands of the region for ages, and hunters come from across the globe for a chance at a bull elk or other big game. Today, ecological restoration through the careful use of wildfire and management of grazing and timber is working to restore and maintain the health of these vital watersheds and grasslands.

The diversity of the soils and microenvironments in the Bears Ears area provide habitat for a wide variety of vegetation. The highest elevations, in the Elk Ridge area of the Manti-La Sal National Forest, contain pockets of ancient Engelmann spruce, ponderosa pine, aspen, and subalpine fir. Mesa tops include pinyon-juniper woodlands along with big sagebrush, low sage, blackbrush, rabbitbrush, bitterbrush, four-wing saltbush, shadscale, winterfat, Utah serviceberry, western chokecherry, hackberry, barberry, cliff rose, and greasewood. Canyons contain diverse vegetation ranging from yucca and cacti such as prickly pear, claret cup, and Whipple's fishhook to mountain mahogany, ponderosa pine, alder, sagebrush, birch, dogwood, and Gambel's oak, along with occasional stands of aspen. Grasses and herbaceous species such as bluegrass, bluestem, giant ryegrass, ricegrass, needle and thread, yarrow, common mallow, balsamroot, low larkspur, horsetail, and peppergrass also grow here, as well as pinnate spring parsley, Navajo penstemon, Canyonlands lomatium, and the Abajo daisy.

Tucked into winding canyons are vibrant riparian communities characterized by Fremont cottonwood, western sandbar willow, yellow willow, and box elder. Numerous seeps provide year-round water and support delicate hanging gardens, moisture-loving plants, and relict species such as Douglas fir. A few populations of the rare Kachina daisy, endemic to the Colorado Plateau, hide in shaded seeps and alcoves of the area's canyons. A genetically distinct population of Kachina daisy was also found on Elk Ridge. The alcove columbine and cave primrose, also regionally endemic, grow in seeps and hanging gardens in the Bears Ears landscape. Wildflowers such as beardtongue, evening primrose, aster, Indian paintbrush, yellow and purple beeflower, straight bladderpod, Durango tumble mustard, scarlet gilia, globe mallow, sand verbena, sego lily, cliffrose, sacred datura, monkey flower, sunflower, prince's plume, hedgehog cactus, and columbine, bring bursts of color to the landscape.

The diverse vegetation and topography of the Bears Ears area, in turn, support a variety of wildlife species. Mule deer and elk range on the mesas and near canyon heads, which provide crucial habitat for both species. The Cedar Mesa landscape is home to bighorn sheep which were once abundant but still live in Indian Creek, and in the canyons north of the San Juan River. Small mammals such as desert cottontail, black-tailed jackrabbit, prairie dog, Botta's pocket gopher, white-tailed antelope squirrel, Colorado chipmunk, canyon mouse, deer mouse, pinyon mouse, and desert woodrat, as well as Utah's only population of Abert's tassel-eared squirrels, find shelter and sustenance in the landscape's canyons and uplands. Rare shrews, including a variant of Merriam's shrew and the dwarf shrew can be found in this area.

Carnivores, including badger, coyote, striped skunk, ringtail, gray fox, bobcat, and the occasional mountain lion, all hunt here, while porcupines use their sharp quills and climbing abilities to escape these predators. Oral histories from the Ute describe the historic presence of bison, antelope, and abundant bighorn sheep, which are also depicted in ancient rock art. Black bear pass through the area but are rarely seen, though they are common in the oral histories and legends of this region, including those of the Navajo.

Consistent sources of water in a dry landscape draw diverse wildlife species to the area's riparian habitats, including an array of amphibian species such as tiger salamander, red-spotted toad, Woodhouse's toad, canyon tree frog, Great Basin spadefoot, and northern leopard frog. Even the most sharp-eyed visitors probably will not catch a glimpse of the secretive Utah night lizard. Other reptiles in the area include the sagebrush lizard, eastern fence lizard, tree lizard, side-blotched lizard, plateau striped whiptail, western rattlesnake, night snake, striped whipsnake, and gopher snake.

Raptors such as the golden eagle, peregrine falcon, bald eagle, northern harrier, northern goshawk, red-tailed hawk, ferruginous hawk, American kestrel, flammulated owl, and great horned owl hunt their prey on the mesa tops with deadly speed and accuracy. The largest contiguous critical habitat for the threatened Mexican spotted owl is on the Manti-La Sal National Forest. Other bird species found in the area include Merriam's turkey, Williamson's sapsucker, common nighthawk, white-throated swift, ash-throated flycatcher, violet-green swallow, cliff swallow, mourning dove, pinyon jay, sagebrush sparrow, canyon towhee, rock wren, sage thrasher, and the endangered southwestern willow flycatcher.

As the skies darken in the evenings, visitors may catch a glimpse of some the area's at least 15 species of bats, including the big free-tailed bat, pallid bat, Townsend's big-eared bat, spotted bat, and silver-haired bat. Tinajas, rock depressions filled with rainwater, provide habitat for many specialized aquatic species, including pothole beetles and freshwater shrimp. Eucosma navajoensis, an endemic moth that has only been described near Valley of the Gods, is unique to this area.

Protection of the Bears Ears area will preserve its cultural, prehistoric, and historic legacy and maintain its diverse array of natural and scientific resources, ensuring that the prehistoric, historic, and scientific values of this area remain for the benefit of all Americans. The Bears Ears area has been proposed for protection by members of Congress, Secretaries of the Interior, State and tribal leaders, and local conservationists for at least 80 years. The area contains numerous objects of historic and of scientific interest, and it provides world class outdoor recreation opportunities, including rock climbing, hunting, hiking, backpacking, canyoneering, whitewater rafting, mountain biking, and horseback riding. Because visitors travel from near and far, these lands support a growing travel and tourism sector that is a source of economic opportunity for the region.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, it is in the public interest to preserve the objects of scientific and historic interest on the Bears Ears lands;

NOW, THEREFORE, I, BARACK OBAMA, President of the United States of America, by the authority vested in me by section 320301 of title 54, United States Code, hereby proclaim the objects identified above that are situated upon lands and interests in lands owned or controlled by the Federal Government to be the Bears Ears National Monument (monument) and, for the purpose of protecting those objects, reserve as part thereof all lands and interests in lands owned or controlled by the Federal Government within the boundaries described on the accompanying map, which is attached to and forms a part of this proclamation. These reserved Federal lands and interests in lands encompass approximately 1.35 million acres. The boundaries described on the accompanying map are confined to the smallest area compatible with the proper care and management of the objects to be protected.

All Federal lands and interests in lands within the boundaries of the monument are hereby appropriated and withdrawn from all forms of entry, location, selection, sale, or other disposition under the public land laws or laws applicable to the U.S. Forest Service, from location, entry, and patent under the mining laws, and from disposition under all laws relating to mineral and geothermal leasing, other than by exchange that furthers the protective purposes of the monument.

The establishment of the monument is subject to valid existing rights, including valid existing water rights. If the Federal Government acquires ownership or control of any lands or interests in lands that it did not previously own or control within the boundaries described on the accompanying map, such lands and interests in lands shall be reserved as a part of the monument, and objects identified above that are situated upon those lands and interests in lands shall be part of the monument, upon acquisition of ownership or control by the Federal Government.

The Secretary of Agriculture and the Secretary of the Interior (Secretaries) shall manage the monument through the U.S. Forest Service (USFS) and the Bureau of Land Management (BLM), pursuant to their respective applicable legal authorities, to implement the purposes of this proclamation. The USFS shall manage that portion of the monument within the boundaries of the National Forest System (NFS), and the BLM shall manage the remainder of the monument. The lands administered by the USFS shall be managed as part of the Manti-La Sal National Forest. The lands administered by the BLM shall be managed as a unit of the National Landscape Conservation System, pursuant to applicable legal authorities.

For purposes of protecting and restoring the objects identified above, the Secretaries shall jointly prepare a management plan for the monument and shall promulgate such regulations for its management as they deem appropriate. The Secretaries, through the USFS and the BLM, shall consult with other Federal land management agencies in the local area, including the National Park Service, in developing the management plan. In promulgating any management rules and regulations governing the NFS lands within the monument and developing the management plan, the Secretary of Agriculture, through the USFS, shall consult with the Secretary of the Interior through the BLM. The Secretaries shall provide for maximum public involvement in the development of that plan including, but not limited to, consultation with federally recognized tribes and State and local governments. In the development and implementation of the management plan, the Secretaries shall maximize opportunities, pursuant to applicable legal authorities, for shared resources, operational efficiency, and cooperation.

The Secretaries, through the BLM and USFS, shall establish an advisory committee under the Federal Advisory Committee Act (5 U.S.C. App.) to provide information and advice regarding the development of the management plan and, as appropriate, management of the monument. This advisory committee shall consist of a fair and balanced representation of interested stakeholders, including State and local governments, tribes, recreational users, local business owners, and private landowners.

In recognition of the importance of tribal participation to the care and management of the objects identified above, and to ensure that management decisions affecting the monument reflect tribal expertise and traditional and historical knowledge, a Bears Ears Commission (Commission) is hereby established to provide guidance and recommendations on the development and implementation of management plans and on management of the monument. The Commission shall consist of one elected officer each from the Hopi Nation, Navajo Nation, Ute Mountain Ute Tribe, Ute Indian Tribe of the Uintah Ouray, and Zuni Tribe, designated by the officers' respective tribes. The Commission may adopt such procedures as it deems necessary to govern its activities, so that it may effectively partner with the Federal agencies by making continuing contributions to inform decisions regarding the management of the monument.

The Secretaries shall meaningfully engage the Commission or, should the Commission no longer exist, the tribal governments through some other entity composed of elected tribal government officers (comparable entity), in the development of the management plan and to inform subsequent management of the monument. To that end, in developing or revising the management plan, the Secretaries shall carefully and fully consider integrating the traditional and historical knowledge and special expertise of the Commission or comparable entity. If the Secretaries decide not to incorporate specific recommendations submitted to them in writing by the Commission or comparable entity, they will provide the Commission or comparable entity with a written explanation of their reasoning. The management plan shall also set forth parameters for continued meaningful engagement with the Commission or comparable entity in implementation of the management plan.

To further the protective purposes of the monument, the Secretary of the Interior shall explore entering into a memorandum of understanding with the State that would set forth terms, pursuant to applicable laws and regulations, for an exchange of land currently owned by the State of Utah and administered by the Utah School and Institutional Trust Lands Administration within the boundary of the monument for land of approximately equal value managed by the BLM outside the boundary of the monument. The Secretary of the Interior shall report to the President by January 19, 2017, regarding the potential for such an exchange.

Nothing in this proclamation shall be construed to interfere with the operation or maintenance, or the replacement or modification within the current authorization boundary, of existing utility, pipeline, or telecommunications facilities located within the monument in a manner consistent with the care and management of the objects identified above.

Nothing in this proclamation shall be deemed to enlarge or diminish the rights or jurisdiction of any Indian tribe. The Secretaries shall, to the maximum extent permitted by law and in consultation with Indian tribes, ensure the protection of Indian sacred sites and traditional cultural properties in the monument and provide access by members of Indian tribes for traditional cultural and customary uses, consistent with the American Indian Religious Freedom Act (42 U.S.C. 1996) and Executive Order 13007 of May 24, 1996 (Indian Sacred Sites), including collection of medicines, berries and other vegetation, forest products, and firewood for personal noncommercial use in a manner consistent with the care and management of the objects identified above.

For purposes of protecting and restoring the objects identified above, the Secretaries shall prepare a transportation plan that designates the roads and trails where motorized and non-motorized mechanized vehicle use will be allowed. Except for emergency or authorized administrative purposes, motorized and non-motorized mechanized vehicle use shall be allowed only on roads and trails designated for such use, consistent with the care and management of such objects. Any additional roads or trails designated for motorized vehicle use must be for the purposes of public safety or protection of such objects.

Laws, regulations, and policies followed by USFS or BLM in issuing and administering grazing permits or leases on lands under their jurisdiction shall continue to apply with regard to the lands in the monument to ensure the ongoing consistency with the care and management of the objects identified above.

Nothing in this proclamation shall be deemed to enlarge or diminish the jurisdiction of the State of Utah, including its jurisdiction and authority with respect to fish and wildlife management.

Nothing in this proclamation shall preclude low-level overflights of military aircraft, the designation of new units of special use airspace, or the use or establishment of military flight training routes over the lands reserved by this proclamation consistent with the care and management of the objects identified above.

Nothing in this proclamation shall be construed to alter the authority or responsibility of any party with respect to emergency response activities within the monument, including wildland fire response.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-eighth day of December, in the year of our Lord two thousand sixteen, and of the Independence of the United States of America the two hundred and forty-first.

Billing code 3295-F7-P

[FR Doc. 2017-00038

Filed 1-4-17; 8:45 am]

Billing code 4310-10-C